DEPARTMENT OF AGRICULTURE

Forest Service

Modoc National Forest, Alturas, CA, Supplemental Information for the Final Environmental Impact Statement (FEIS) Motorized Travel Management

AGENCY: Forest Service, USDA.

ACTION: Notice of intent to supplement the Modoc National Forest Motorized Travel Management Final Environmental Impact Statement (FEIS) issued in November 2009 [NOI Federal Register on May 12, 2008 (Volume 73, Number 92)].

SUMMARY: This document will provide supplemental information that supports:

• The addition of 331 miles of unauthorized routes to the National Forest Transportation System (NFTS) on the Modoc National Forest.

• The decision to change the vehicle class on 513 miles of Maintenance Level 3 (ML3) roads to allow for mixed use by both highway legal and non-highway legal vehicles.

And will include:

• A Riparian Conservation Objective Analysis (RCOA) and proof of compliance with the Forest Plan Standards and Guidelines as articulated in the Sierra Nevada Forest Plan Amendment for proposed additions of motor vehicle routes in Critical Aquatic Refuges (CARs) and Riparian Conservation Areas (RCAs).

• Confirmation that the Responsible Official has met the requirements of pertinent laws, regulations, or the Modoc LRMP for ungulates with regard to routes added to the NFTS as well as ML3 routes being changed to allow mixed-use.

DATES: Completion date for the supplemental document is expected to be in December 2011. There will be a 45-day comment period once the document is issued.

ADDRESSES: Send written comments to Modoc National Forest, Supplemental Travel Management, 800 W. 12th Street, Alturas, CA 96101. Comments may also be sent via e-mail to comments-pacificsouthwest-modoc@fs.fed.us please put Supplemental Travel Management in the Subject Line, or via facsimile to 530-233-8309, please address to Supplemental Travel Management.

FOR FURTHER INFORMATION CONTACT: Kathleen Borovac at 530-233-8754 or the Public Affairs Officer at 530-640-1168.

Individuals who use telecommunication devices for the deaf (TDD) may call the Federal Information Relay Service (FIRS) at 1-800-877-8339 between 8 a.m. and 8 p.m., Eastern Time, Monday through Friday.

SUPPLEMENTARY INFORMATION:

Purpose and Need for Action

The Modoc National Forest is creating this document to bolster the Modoc National Forest Motorized Travel Management FEIS by correcting any errata and by providing supplemental information that was found to be missing from the original document. This information is provided in response to the Appeal Deciding Officers' decision dated March 11, 2010 that reversed part of the original decision.

Proposed Action

The Modoc National Forest proposes to add 331 miles of unauthorized routes to the National Forest Transportation System (NFTS) on the Modoc National Forest and change the vehicle class on 513 miles of Maintenance Level 3 (ML3) roads to allow for mixed use by both highway legal and non-highway legal vehicles as originally proposed in the Motorized Travel Management FEIS and ROD (November, 2009).

Responsible Official

Forest Supervisor, Kimberly Anderson, Modoc National Forest.

Nature of Decision To Be Made

The Responsible Official will decide whether to (1) Implement the Proposed Action; (2) take no action.

Preliminary Issues

This document will supplement the existing Motorized Travel Management FEIS (Volume 1, Volume 2, and (ROD) Record of Decision) and includes a decision letter signed by Angela Coleman (Appeal Deciding Officer) dated March 11, 2011 that reversed part of the decision. All of the information in the existing Travel Management EIS will be considered when creating the Supplemental Information document including, but not limited to, the response to comments and public scoping comments.

Scoping Process

This notice of intent initiates the development of a supplement for the Motorized Travel Management FEIS. All interested parties from the previous Travel Management FEIS will be notified of the supplement's availability when completed.

Once the document is issued, it is important that reviewers provide their comments at such times and in such manner that they are useful to the agency's preparation of this supplemental document. All scoping comments from the previous Motorized Travel Management FEIS have already been considered and do not need to be resubmitted.

Dated: September 8, 2011.
Kimberly H. Anderson,
Forest Supervisor.

[FR Doc. 2011-23613 Filed 9-19-11; 8:45 am]

BILLING CODE 3410-11-P